FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted May 1, 2013 Thru May 31, 2013
05/01/2013
20130769 | G | Frazier Healthcare VI, L.P.; AmerisourceBergen Corporation; Frazier Healthcare VI, L.P.
20130800 | G | Atlas Pipeline Partners, L.P.; Natural Gas Partners IX, L.P.; Atlas Pipeline Partners, L.P.
05/02/2013
20130768 | G | Golden Gate Capital Opportunity Fund, L.P.; Springs Industries, Inc.; Golden Gate Capital Opportunity Fund, L.P.
20130798 | G | General Electric Company; Lufkin Industries, Inc.; General Electric Company.
05/03/2013
20130783 | G | Curt Richardson; Gary A. and Sophia Rayner; Curt Richardson.
20130792 | G | Marcato, L.P.; Lear Corporation; Marcato, L.P.
05/06/2013
20130795 | G | Three-Twenty-Three Family Holdings, LLC; American Greetings Corporation; Three-Twenty-Three Family Holdings, LLC.
20130812 | G | Mitsui Chemicals, Inc.; Heraeus Holding GmbH; Mitsui Chemicals, Inc.
20130813 | G | TPG Partners VI, L.P.; Advent Software, Inc.; TPG Partners VI, L.P.
05/07/2013
20130810 | G | Madison Dearborn Capital Partners VI-A, L.P.; National Financial Partners Corp.; Madison Dearborn Capital Partners VI-A, L.P.
05/10/2013
20130779 | G | Kaluz, S.A. de CV.; PolyOne Corporation; Kaluz, S.A. de C.V.
20130815 | G | Reuben Mark; Cabela's Incorporated; Reuben Mark.
05/13/2013
20130818 | G | The NASDAQ OMX Group, Inc.; Howard W. Lutnick; The NASDAQ OMX Group, Inc.
05/14/2013
20130811 | G | Post Holdings, Inc.; Hearthside Holdco, LLC; Post Holdings, Inc.
05/15/2013
20130805 | G | Sinclair Broadcast Group, Inc.; Fisher Communications, Inc.; Sinclair Broadcast Group, Inc.
20130824 | G | Catholic Health Initiatives; St. Luke's Episcopal Health System Corporation; Catholic Health Initiatives.
20130831 | G | Berkshire Hathaway Inc.; DaVita HealthCare Partners Inc.; Berkshire Hathaway Inc.
05/17/2013
20130807 | G | KPS Special Situations Fund III (Supplemental), L.P.; KIPB Group Holdings, Inc.; KPS Special Situations Fund III (Supplemental), L.P.
20130808 | G | KPS Special Situations Fund III (Supplemental), L.P.; Wausau Paper Corp.; KPS Special Situations Fund III (Supplemental), L.P.
20130822 | G | General Electric Company; George Salof; General Electric Company.
20130832 | G | Olympus Growth Fund V, L.P.; Sajjad Ebrahim; Olympus Growth Fund V, L.P.
20130833 | G | SemGroup Corporation; Chesapeake Energy Corporation; SemGroup Corporation.
20130838 | Y | Huntsman Gay Capital Partners Fund, L.P.; MyWebGrocer, Inc.; Huntsman Gay Capital Partners Fund, L.P.
20130852 | G | Birch Hill Equity Partners (US) IV, LP; Softchoice Corporation; Birch Hill Equity Partners (US) IV, LP.
20130853 | G | Avista Capital Partners III, L.P.; Telular Corporation; Avista Capital Partners III, L.P.
05/20/2013
20130847 | G | MMIC Group, Inc.; Utah Medical Insurance Association; MMIC Group, Inc.
05/21/2013
20130840 | G | ABB Ltd.; Power-One, Inc.; ABB Ltd.
05/22/2013
20130849 | G | Bridgepoint Europe IV Investments (2) S.a.r.l.; Eurazeo; Bridgepoint Europe IV Investments (2) S.a.r.l.
05/23/2013
20130809 | Y | Littelfuse, Inc.; Crestview Partners, L.P.; Littelfuse, Inc.
05/24/2013
20130284 | G | Cinemark Holdings, Inc.; TowerBrook Investors III, L.P.; Cinemark Holdings, Inc.
20130802 | G | AgGen Liberty Holdings LLC; Genworth Financial, Inc.; AgGen Liberty Holdings LLC.
20130839 | G | Li & Fung Limited; Kenneth J. Whalen; Li & Fung Limited.
20130856 | G | Fifth Street Finance Corp.; Healthcare Finance Group, LLC; Fifth Street Finance Corp.
20130857 | G | Trulia, Inc.; Market Leader, Inc.; Trulia, Inc.
20130858 | G | Onex Partners III LP; Valcon Acquisition Holding (Luxembourg) S.a.r.l.; Onex Partners III LP.
20130859 | G | Chef Holdings, Inc.; Littlejohn Fund III, L.P.; Chef Holdings, Inc.
20130860 | G | Boxer Parent Company Inc.; BMC Software, Inc.; Boxer Parent Company Inc.
20130863 | G | Temasek Holdings (Private) Limited; Michael G. Rubin; Temasek Holdings (Private) Limited.
20130865 | G | CCP IX LP No. 1; ARMACELL LIMITED; CCP IX LP No. 1.
20130868 | G | Herff Jones, Inc.; Sage Parent Company, Inc.; Herff Jones, Inc.
20130875 | G | Eastman Kodak Company; Eastman Kodak Company; Eastman Kodak Company.
05/28/2013
20130871 | G | Elon Musk; Tesla Motors, Inc.; Elon Musk.
05/29/2013
20130825 | G | RoundTable Healthcare Partners III, L.P.; GlaxoSmithKline plc; RoundTable Healthcare Partners III, L.P.
20130855 | G | The Resolute Fund II Maritime Partnership, L.P.; Joel N. Broussard; The Resolute Fund II Maritime Partnership, L.P.
20130861 | G | AT&T Inc.; Lake Mobility LLC; AT&T Inc.
05/30/2013
20130841 | G | Heico Corporation; The Resolute Fund L.P.; Heico Corporation.
20130862 | G | TransDigm Group Incorporated; Trust u/Article EIGHT of the L/W/T of Daniel Berlin 4/29/09; TransDigm Group Incorporated.
20130877 | G | Capstone Mining Corp.; BHP Billiton Limited; Capstone Mining Corp.
05/31/2013
20130546 | G | Partners HealthCare System, Inc.; Cooley Dickinson Health Care Corporation; Partners HealthCare System, Inc.
20130888 | G | Hi-Crush Proppants LlC; D & I Silica, LLC; Hi-Crush Proppants LlC.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2013-14105 Filed 6-13-13; 8:45 am]

BILLING CODE 6750-01-M